DEPARTMENT OF THE INTERIOR

Bureau of Land Management

[CO 931 1220 PA]

Proposed Supplementary Rule to Establish Application Fees for Commercial, Competitive, and Organized Group Activity and Event Special Recreation Permits

AGENCY: Bureau of Land Management, Interior.

ACTION: Proposed supplementary rule; Correction.

SUMMARY: The Bureau of Land Management (BLM) published in the Federal Register of September 11, 2007, a document concerning a proposal to establish supplementary rules addressing Special Recreation Permit (SRP) fees. Inadvertently an effective date, October 1, 2007, was inserted in the SUMMARY section of the proposed rule. The document also included a penalty section that was inappropriate for the requirement in the proposed supplementary rule. This correction notice also removes that penalty provision.

FOR FURTHER INFORMATION CONTACT: Jack Placchi, Outdoor Recreation Planner Bureau of Land Management, Colorado State Office, 2850 Youngfield, Lakefield, Colorado 80215, (303) 239-3832.

SUPPLEMENTARY INFORMATION: The BLM published a document in the Federal Register of September 11, 2007 (72 FR 51835) giving the incorrect date of October 1, 2007, as the date the proposed fees would become effective. This correction removes that date and revises the language published on September 11, 2007.

Corrections

In the Federal Register of September 11, 2007, in FR Doc. E7-17827, make the following corrections:

On page 51834, in the third column, correct the sixth (6th) sentence of the SUMMARY to read as follows:

SUMMARY: * * * The proposed application fees are:

New Special Recreation Permits—$100

Renewals (re-issuance of expiring/expired permits)—$50

Transfers—$100

Annual operating authorizations—No fee charged * * *

On page 51837, in the first column, correct the document by removing the final paragraph and the heading “Penalties.”

Dated: September 20, 2007.
Ted Hudson,
Acting Chief, Division of Regulatory Affairs.

[FR Doc. E7-18876 Filed 9-24-07; 8:45 am]

BILLING CODE 4310-GG-P